DEPARTMENT OF THE INTERIOR

Bureau of Land Management

[LLNV952000 L14400000.BJ0000.LXSSF2210000.241A; 13-08807; MO #4500079470; TAS: 15X1109]

Filing of Plats of Survey; NV

AGENCY: Bureau of Land Management, Interior.

ACTION: Notice.

SUMMARY: The purpose of this notice is to inform the public and interested State and local government officials of the filing of Plats of Survey in Nevada.

DATES: Effective Dates: Unless otherwise stated filing is effective at 10:00 a.m. on the dates indicated below.

FOR FURTHER INFORMATION CONTACT: Michael O. Harmening, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plat of Survey of the following described lands will be officially filed at the Bureau of Land Management (BLM) Nevada State Office, Reno, Nevada on the first business day after thirty (30) days from the publication of this notice: This plat, in 3 sheets, representing the dependent resurvey of a portion of the south and west boundaries, a survey of a portion of the subdivisional lines and metes-and-bounds surveys of certain boundary lines in sections 28, 29, 30 and 31, Township 13 North, Range 27 East, Mount Diablo Meridian, under Group No. 941, was accepted May 14, 2015. This survey was executed at the request of the Bureau of Land Management, Carson City District Office, Nevada, to facilitate the conveyance of certain public lands to the Municipality of Yerington, Nevada, as authorized in the National Defense Authorization Act of Fiscal Year 2015 (Pub. L. 113-291).

The survey listed above is now the basic record for describing the lands for all authorized purposes. These records have been placed in the open files in the BLM Nevada State Office and are available to the public as a matter of information. Copies of the survey and related field notes may be furnished to the public upon payment of the appropriate fees.

Dated: May 14, 2015.
Michael O. Harmening,
Chief Cadastral Surveyor, Nevada.

[FR Doc. 2015-12217 Filed 5-19-15; 8:45 am]

BILLING CODE 4310-HC-P